COMMITTEE FOR PURCHASE FROM PEOPLE WHO ARE BLIND OR SEVERELY DISABLED

Procurement List; Proposed Additions and Deletions

AGENCY: Committee for Purchase From People Who Are Blind or Severely Disabled.

ACTION: Proposed deletions from the procurement list.

SUMMARY: The Committee is proposing to deletes product(s) and service(s) to the Procurement List that will be furnished by nonprofit agencies employing persons who are blind or have other severe disabilities, and product(s) and service(s) previously furnished by such agencies.

DATES: Comments must be received on or before: March 18, 2019.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 603-2117, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following product(s) and service(s) are proposed for deletion from the Procurement List:

Products

NSNs—Product Names:

5340-00-410-2972—Clamp, Loop, CRES, Teflon-Asbestos, 1/2″ Loop x 1/2″ Wide

5340-00-410-2974—Clamp, Loop, CRES, Teflon-Asbestos, 5/8″ Loop x 1/2″ Wide

5340-00-420-1749—Clamp, Loop, CRES, Teflon-Asbestos, 1-31/500″ Loop x 1/2″ Wide

Mandatory Source of Supply: Skookum Educational Programs, Bremerton, WA

Contracting Activity: DLA TROOP SUPPORT, PHILADELPHIA, PA

Services

Service Type: Janitorial/Custodial

Mandatory for: Food and Drug Administration Building: 240 Hennepin Avenue, South, Minneapolis, MN

Mandatory Source of Supply: Tasks Unlimited, Inc., Minneapolis, MN

Contracting Activity: General Services Administration, FPDS Agency Coordinator

Service Type: Custodial Services, Shelf Stocking

Mandatory for: Great Lakes Naval Training Center: 2703 Sheridan Road Galley 535, 928 and 1128, Great Lakes, IL

Mandatory for: Fort Monroe, VA

Mandatory Source of Supply: VersAbility Resources, Inc., Hampton, VA

Contracting Activity: DEFENSE COMMISSARY AGENCY (DECA)

Service Type: Switchboard Operation

Mandatory for: Veterans Affairs Medical Center, Nashville, TN

Mandatory Source of Supply: Ed Lindsey Industries f/t Blind, Inc., Nashville, TN

Contracting Activity: VETERANS AFFAIRS, DEPARTMENT OF, NAC

Service Type: Temporary Medical Record Filing

Mandatory for: Alvin C. York VA Medical Center, Murfreesboro, TN

VA Medical Center, Nashville, TN

Mandatory Source of Supply: Ed Lindsey Industries f/t Blind, Inc., Nashville, TN

Contracting Activity: VETERANS AFFAIRS, DEPARTMENT OF, NAC

Service Type: JWOD Staffing Services

Mandatory for: GSA, Nationwide, Washington, DC

Mandatory Source of Supply: Ed Lindsey Industries f/t Blind, Inc., Nashville, TN

Contracting Activity: General Services Administration, FPDS Agency Coordinator

Service Type: Janitorial/Custodial

Mandatory for: Armed Forces Reserve Center: 1702 Tahoma Avenue Yakima, WA

Mandatory Source of Supply: Yakima Specialties, Inc., Yakima, WA

Contracting Activity: DEPT OF THE NAVY, U S FLEET FORCES COMMAND

Service Type: Janitorial/Custodial

Mandatory for: U.S. Federal Building—Everett, 3002 Colby Avenue, Everett, WA

Mandatory Source of Supply: AtWork!, Bellevue, WA

Contracting Activity: General Services Administration, FPDS Agency Coordinator

Service Type: Janitorial/Custodial

Mandatory for: U.S. Federal Building: 815 Airport Way, U.S. Department of Justice, INS, Seattle, WA

Mandatory Source of Supply: Northwest Center, Seattle, WA

Contracting Activity: FEDERAL PRISON SYSTEM, TERMINAL ISLAND, FCI

Service Type: Janitorial/Custodial

Mandatory for: U.S. Customs House: 220 NE 8th Avenue, Portland, OR

Mandatory Source of Supply: Relay Resources, Portland, OR

Contracting Activity: TREASURY, DEPARTMENT OF THE

Service Type: Administrative Services

Mandatory for: GSA, Pacific Rim Region PBS: 450 Golden Gate Avenue San Francisco, CA

Mandatory Source of Supply: Toolworks, Inc., San Francisco, CA

Contracting Activity: General Services Administration, FPDS Agency Coordinator

Service Type: Operation of GSA Access Store

Mandatory for: U.S. Federal Building and Courthouse: 450 Golden Gate Avenue, Phillip Burton, San Francisco, CA

Mandatory Source of Supply: Pacific Coast Community Services, Richmond, CA

Contracting Activity: General Services Administration, FPDS Agency Coordinator

Service Type: Janitorial/Custodial

Mandatory for: U.S. Army Reserve Center: #1-9 Chisolm Street #2-1050 Remound Road, Charleston, SC

Mandatory Source of Supply: Dorchester County Board of Disabilities and Special Needs, Summerville, SC

Contracting Activity: DEPT OF THE ARMY, W40M NORTHEREGION CONTRACT OFC

Service Type: Custodial Services

Mandatory for: Army Reserve Contracting Center: 1605 Coraopolis Heights Road Coraopolis Satellite Office/PA178 West Pointe Corp Coraopolis, PA

Mandatory Source of Supply: Hancock County Sheltered Workshop, Inc., Weirton, WV

Contracting Activity: DEPT OF THE ARMY, W40M NORTHEREGION CONTRACT OFC

Service Type: Janitorial/Custodial

Mandatory for: U.S. Federal Building: 511 NW Broadway, Portland, OR

Mandatory Source of Supply: Relay Resources, Portland, OR

Contracting Activity: PUBLIC BUILDINGS SERVICE, GSA/PBS

Service Type: Custodial Services

Mandatory for: Edward Hines Jr. VA Hospital: Hines Campus Roosevelt Road Hines, IL

5th Avenue, Hines, IL

Mandatory Source of Supply: Jewish Vocational Service and Employment Center, Chicago, IL

Contracting Activity: VETERANS AFFAIRS, DEPARTMENT OF, NAC

Service Type: Food Service

Mandatory for: Illinois National Guard, Lincoln's Challenge Academy: 205 W. Dodge, Building 303, Rantoul, IL

Mandatory Source of Supply: Challenge Unlimited, Inc., Alton, IL

Contracting Activity: DEPT OF DEFENSE, DOD/OFF OF SECRETARY OF DEF (EXC MIL DEPTS)

Service Type: Janitorial/Custodial

Mandatory for: U.S. Army Corps of Engineers: Saylorville Lake Project Saylorville Lake, IA

Mandatory Source of Supply: Goodwill Solutions, Inc., Johnston, IA

Contracting Activity: DEPT OF THE ARMY, W07V ENDIST ROCK ISLAND

Service Type: Recycling Service

Mandatory for: Federal Center/Battle Creek: Buildings 1, 1A, 1B, 2, 2A, and 2C 74 North Washington, Battle Creek, MI

Mandatory Source of Supply: Navigations, Incorporated, Battle Creek, MI

Contracting Activity: General Services Administration, FPDS Agency Coordinator

Service Type: Shelf Stocking, Custodial & Warehousing

Mandatory for: Travis Air Force Base, CA

Mandatory Source of Supply: PRIDE Industries, Roseville, CA

Mandatory for: Fort Gillem, GA

Mandatory Source of Supply: Brevard Achievement Center, Inc., Rockledge, FL

Contracting Activity: DEFENSE COMMISSARY AGENCY (DECA)

Service Type: Shelf Stocking & Custodial

Mandatory for: Homestead Air Reserve Base, FL

Mandatory Source of Supply: Goodwill Industries of South Florida, Inc., Miami, FL

Contracting Activity: DEFENSE COMMISSARY AGENCY (DECA)

Service Type: Janitorial/Custodial

Mandatory for: U.S. Army Reserve Center—Windsor Locks: 700 South Quaker Lane, West Hartford, CT BG J.W. Middleton: 22 Phelps Road, West Hartford, CT

Mandatory Source of Supply: Allied Community Services, Inc., Enfield, CT

Contracting Activity: DEPT OF THE ARMY, W6QM MICC-FT DIX (RC-E)

Service Type: Administrative Services

Mandatory for: Fort Sam Houston: Directorate of Public Works Fort Sam Houston, TX

Mandatory Source of Supply: Training, Rehabilitation, & Development Institute, Inc., San Antonio, TX

Contracting Activity: DEPT OF THE ARMY, W40M NORTHEREGION CONTRACT OFC

Service Type: Janitorial/Custodial

Mandatory for: Naval Reserve Readiness Center, Seattle, WA

Contracting Activity: DEPT OF THE NAVY, U S FLEET FORCES COMMAND

Service Type: Janitorial/Custodial

Mandatory for: U.S. Federal Building and Post Office 18th & K Streets, Merced, CA

Contracting Activity: General Services Administration, FPDS Agency Coordinator

Service Type: Administrative Services

Mandatory for: Delaware Valley Office: GSA Region3, Trenton NJ

Mandatory Source of Supply: Elwyn, Aston, PA

Contracting Activity: Public Buildings Service, GSA/PBS/R03 North Service Center

Service Type: Administrative Services

Mandatory for: GSA, Regional Emergency Management Control Center: GSA Complex, Auburn, WA

Mandatory Source of Supply: Relay Resources, Portland, OR

Contracting Activity: General Services Administration, FPDS Agency Coordinator

Service Type: Administrative Services

Mandatory for: Federal Supply Service: 1500 E. Bannister Road Kansas City, MO

Mandatory Source of Supply: JobOne, Independence, MO

Contracting Activity: General Services Administration, FPDS Agency Coordinator

Service Type: Janitorial/Custodial

Mandatory for: Denver Federal Center: Building 85, Denver, CO

Mandatory Source of Supply: North Metro Community Services for Developmentally Disabled, Westminster, CO

Contracting Activity: General Services Administration, FPDS Agency Coordinator

Service Type: Shelf Stocking & Custodial

Mandatory for: Meridian Naval Air Station, Meridian, MS

Mandatory Source of Supply: Alabama Goodwill Industries, Inc., Birmingham, AL

Contracting Activity: DEFENSE COMMISSARY AGENCY (DECA)

Patricia Briscoe,
Deputy Director, Business Operations (Pricing and Information Management).

[FR Doc. 2019-02510 Filed 2-14-19; 8:45 am]

BILLING CODE 6353-01-P